DEPARTMENT OF DEFENSE

Office of the Secretary

[Docket ID: DoD-2014-OS-0151]

Proposed Collection; Comment Request

AGENCY: Office of the Under Secretary of Defense for Personnel and Readiness OUSD(P&R), Federal Voting Assistance Program (FVAP), DoD.

ACTION: Notice.

SUMMARY: In compliance with the Paperwork Reduction Act of 1995, The Office of the Under Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 20, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Director, Federal Voting Assistance Program, ATTN: Kathleen McDonnell, 4800 Mark Center Drive, Mailbox 10, Alexandria, Virginia 22350-5000.

SUPPLEMENTARY INFORMATION:

Title; Associated Form; and OMB Number: Federal Write-In Absentee Ballot (FWAB), Standard Form 186 (SF-186); OMB Control Number 0704-0502.

Needs and Uses: The information collection requirement is necessary to fulfill the requirement of the Uniformed and Overseas Absentee Voting Act (UOCAVA), 46 U.S.C. 1973ff wherein the Secretary of Defense is to prescribe the Federal write-in absentee ballot for absent uniformed service voters and overseas voters in general elections for Federal office. The Department of Defense, Under Secretary of Defense (Personnel and Readiness), Federal Voting Assistance Program, revised the SF 186, Federal Write-In Absentee Ballot and SF 186A, Federal Write-In Absentee Ballot (Electronic) to comply with Section 3506(c)(2)(A) of the Paperwork Reduction Act of 1995.

Affected Public: Individuals or Households.

Annual Burden Hours: 300,000.

Number of Respondents: 1,200,000.

Responses per Respondent: 1.

Average Burden per Response: 15 minutes.

Frequency: On occasion.

Respondents are UOCAVA citizens who desire to vote in a Federal election but did not receive an absentee ballot from their State of residency with enough time to vote and return it. The information provided by these citizens is used by the States to determine if the citizen is a resident of a jurisdiction within that State, has previously requested an absentee ballot (when applicable) and therefore eligible for the enclosed ballot to be counted. In States that allow the form to be used as a voter registration form, the information provided is used by the States to determine if the citizen is a resident of a jurisdiction within that State, and therefore eligible to vote within that jurisdiction and to provide absentee ballots to these citizens for Federal elections held within each calendar year. This form is mandated by 42 U.S.C 1973ff. The Department of Defense does not receive, collect nor maintain any data provided on the form by these citizens; this data is collected and maintained by the individual States. The burden in the collection of this data resides in the individual States. If the form is not provided, UOCAVA citizens would not have access to the emergency backup ballot and thus, may be disenfranchised from their right as a U.S. citizen to participate in the electoral process.

The previous edition of this form is dated 08-2013. The form had been updated for usability and consistency. The most significant changes to the form were the addition of the Agency Disclosure Statement and Block 2 classification options. Comments are invited on the usability of the SF 186, Federal Write-In Absentee Ballot. Interested parties should locate the PDF form in the docket where it is available for download and testing.

Dated: November 12, 2014.
Aaron Siegel,
Alternate OSD Federal Register Liaison Officer, Department of Defense.

[FR Doc. 2014-27221 Filed 11-17-14; 8:45 am]

BILLING CODE 5001-06-P